DEPARTMENT OF HEALTH AND HUMAN SERVICES

National Institutes of Health

Submission for OMB Review; 30-Day Comment Request; Stakeholder Measures and Advocate Forms at the National Cancer Institute (NCI)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Amy Williams, Director of the Office of Advocacy Relations (OAR), NCI, NIH, 31 Center Drive, Bldg. 31, Room 10A28, MSC 2580, Bethesda, MD 20892, call non-toll-free number 240-781-3406, or email your request, including your address, to amy.williams@nih.gov.

SUPPLEMENTARY INFORMATION: This proposed information collection was previously published in the Federal Register on October 8, 2020, page 63565 (Vol. 85 FR 63565) and allowed 60 days for public comment. No public comments were received. The National Cancer Institute (NCI), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: Stakeholder Measures and Advocate Forms at the National Cancer Institute (NCI), OMB #0925-NEW: Expiration Date XX/XX/XXXX, NEW, National Cancer Institute (NCI), National Institutes of Health (NIH).

Need and Use of Information Collection: The Office of Advocacy Relations (OAR) has collected data from different stakeholder constituencies: NIH and NCI staff, NCI-funded scientists and staff from universities and cancer centers, research advocates and their advocacy organizations, and members of scientific and professional societies and their organizations concerned about cancer. OAR uses the Profile Completion Questionnaire to capture applicant information such as basic contact information, age, gender, race and ethnicity, work focus, employment status, health experiences, and research advocacy experience. In addition, a post-activity survey is requested to ensure the advocates received property support by assessing satisfaction, expectations, involvement, barriers, and recruitment while working with the NCI. OAR continues to use the database system, which will allow this information to be collected electronically to match advocates easily and appropriately to NCI initiatives and activities as well as to assist NCI researchers in finding advocates to support their activities. In the previous three years, OAR has welcomed 49 advocates into our network. Advocates have contributed to over 30 activities, ranging widely in scope and duration. Several examples include speaking engagements, Task Force appointments, Steering Committee appointments, webinars, Advisory Board appointments, etc. These forms were previously approved as, “Generic Submission for Formative Research, Pre-testing, Stakeholder Measures and Advocate Forms at NCI” (OMB #: 0925-0641, Expiration Date: 1/31/2021). However, since OAR has not submitted Gen ICs for the past approvals this is being submitted as a new submission.

OMB approval is requested for 3 years. There are no costs to respondents other than their time. The total estimated annualized burden hours are 16.

Estimated Annualized Burden Hours
Form name | Type of respondent | Number of respondents | Number of responses per respondent | Average time per response (in hours) | Total annual burden hour
Profile Completion | Individuals | 30 | 1 | 30/60 | 15
Survey | Individuals | 15 | 1 | 5/60 | 1
Totals |  |  | 45 |  | 16

Dated: September 2, 2021.
Diane Kreinbrink,
Project Clearance Liaison, National Cancer Institute, National Institutes of Health.

[FR Doc. 2021-19544 Filed 9-9-21; 8:45 am]

BILLING CODE 4140-01-P